DEPARTMENT OF THE INTERIOR

Bureau of Land Management

[BLM_CO_FRN_MO4500176823]

Notice of Availability of the Record of Decision for the Approved Eastern Colorado Resource Management Plan for the Royal Gorge Field Office, Colorado

AGENCY: Bureau of Land Management, Interior.

ACTION: Notice of availability.

SUMMARY: The Bureau of Land Management (BLM) announces the availability of the Record of Decision (ROD) for the approved Resource Management Plan (RMP) for the Royal Gorge Field Office located in eastern Colorado. The Colorado State Director signed the ROD on January 9, 2024, which constitutes the final decision of the BLM and makes the approved RMP effective immediately.

DATES: The Colorado State Director signed the ROD on January 9, 2024.

ADDRESSES: The ROD/approved RMP is available online at https://eplanning.blm.gov/eplanning-ui/project/39877/510. Printed copies of the ROD/approved RMP are available for public inspection at Royal Gorge Field Office, Bureau of Land Management, 3028 E. Main, Cañon City, CO 81212 or can be provided upon request by contacting BLM Project Manager John Smeins at jsmeins@blm.gov or 719-252-8212.

A copy of the Protest Resolution Report is available at: https://www.blm.gov/programs/planning-and-nepa/public-participation/protest-resolution-reports.

FOR FURTHER INFORMATION CONTACT: John Smeins, Project Manager, telephone 719-252-8212; address 3028 E Main St., Cañon City, CO 81212; email jsmeins@blm.gov. Individuals in the United States who are deaf, deafblind, hard of hearing, or have a speech disability may dial 711 (TTY, TDD, or TeleBraille) to access telecommunications relay services for contacting Mr. Smeins. Individuals outside the United States should use the relay services offered within their country to make international calls to the point-of-contact in the United States.

SUPPLEMENTARY INFORMATION: The BLM prepared the Eastern Colorado proposed RMP/final environmental impact statement (EIS) to evaluate and revise the management strategy for resources, resource uses, and special designations on public lands managed by the Royal Gorge Field Office, which is the planning area for the RMP. Existing management decisions for public lands and resources in the Royal Gorge Field Office are currently described in two documents: the 1986 Northeast RMP, as amended; and the 1996 Royal Gorge RMP, as amended.

The planning area encompasses approximately 35 million acres of land under various jurisdictions, including the BLM, U.S. Forest Service, National Park Service, State of Colorado, and local government, and private lands in 37 counties across south-central and eastern Colorado. The Browns Canyon National Monument is not part of the planning area for this RMP/EIS, as it is the subject of a separate plan. The Eastern Colorado RMP will provide management direction for approximately 658,200 acres of BLM-administered surface land and approximately 3,311,900 acres of BLM-administered mineral estate. The decision area includes all BLM public lands and approximately 2,673,000 acres of split-estate Federal minerals on private, local government, and State lands. It does not include National Forest System land and other Federal land where the BLM does not make planning decisions about oil and gas management and other uses. The BLM typically adopts the requirements determined by those Federal surface-managing agencies when leasing the associated mineral estate; while such lands are within the planning area, they are outside the decision area for this RMP.

The approved RMP emphasizes balancing resources and resource use among competing human interests, land uses, and the conservation of natural and cultural resource values, while sustaining and enhancing ecological integrity across the landscape, including plant, wildlife, and fish habitat. This plan has four geographic landscapes with distinct management and incorporates a balanced level of protection, restoration, and enhancement, as well as the use of resources and services to meet ongoing programs and land uses with an emphasis on local community visions for the future of public lands.

Through this collaborative planning effort, the approved RMP describes the actions to guide future management and meet desired resource conditions. The preferred alternative for the draft plan was carried forward into the final with modifications.

The BLM provided the proposed RMP/final EIS on July 7, 2023, for a 30-day public protest period and received five protest letters. The BLM's Assistant Director for Resources and Planning resolved all protests. Responses to protest issues have been compiled and documented in a Protest Resolution Report (see ADDRESSES). No changes to the Eastern Colorado proposed RMP/EIS were necessary as a result of protests.

The BLM provided the proposed RMP/final EIS to the Governor of Colorado for a 60-day Governor's consistency review. No inconsistencies with State or local plans, policies, or programs were identified during the Governor's consistency review of the proposed RMP/final EIS. No changes to the Eastern Colorado proposed RMP/EIS were necessary as a result of the Governor's consistency review.

The decisions limiting camping are implementation decisions and are appealable under 43 CFR part 4. These decisions are contained in Tables II-16 and II-17 of the approved RMP. Any party adversely affected by the proposed camping limitations may appeal within 30 days of publication of this Notice of Availability pursuant to 43 CFR, part 4, subpart E. The appeal must be filed with the Royal Gorge Field Manager at the above listed address. Please consult the appropriate regulations (43 CFR, part 4, subpart E) for further appeal requirements.

(Authority: 40 CFR 1506.6, 40 CFR 1506.10, 43 CFR 1610.2)

Douglas J. Vilsack,
BLM Colorado State Director.

[FR Doc. 2024-00745 Filed 1-18-24; 8:45 am]

BILLING CODE 4331-16-P